DEPARTMENT OF ENERGY

Federal Energy Regulatory Commission

Combined Notice of Filings #1

Take notice that the Commission received the following exempt wholesale generator filings:

Docket Numbers: EG25-307-000.

Applicants: AE-ESS Holyoke, LLC.

Description: AE-ESS Holyoke, LLC submits Notice of Self-Certification of Exempt Wholesale Generator Status.

Filed Date: 4/30/25.

Accession Number: 20250430-5370.

Comment Date: 5 p.m. ET 5/21/25.

Docket Numbers: EG25-308-000.

Applicants: Cascade BESS LLC.

Description: Cascade BESS LLC submits Notice of Self-Certification of Exempt Wholesale Generator Status.

Filed Date: 4/30/25.

Accession Number: 20250430-5376.

Comment Date: 5 p.m. ET 5/21/25.

Take notice that the Commission received the following electric rate filings:

Docket Numbers: ER10-2437-024.

Applicants: Arizona Public Service Company.

Description: Notice of Change in Status and Errata of Arizona Public Service Company.

Filed Date: 4/29/25.

Accession Number: 20250429-5344.

Comment Date: 5 p.m. ET 5/20/25.

Docket Numbers: ER15-1015-004.

Applicants: AltaGas Brush Energy Inc.

Description: Notice of Change in Status of AltaGas Brush Energy, Inc.

Filed Date: 4/29/25.

Accession Number: 20250429-5347.

Comment Date: 5 p.m. ET 5/20/25.

Docket Numbers: ER24-116-004.

Applicants: Rhythm Ops, LLC.

Description: Notice of Non-Material Change in Status of Rhythm Ops, LLC.

Filed Date: 4/29/25.

Accession Number: 20250429-5363.

Comment Date: 5 p.m. ET 5/20/25.

Docket Numbers: ER25-1489-001.

Applicants: PacifiCorp.

Description: Tariff Amendment: Amendment to Certificate of Concurrence designated as Rate Schedule No. 796 to be effective 2/26/2025.

Filed Date: 4/30/25.

Accession Number: 20250430-5270.

Comment Date: 5 p.m. ET 5/12/25.

Docket Numbers: ER25-2058-000.

Applicants: Lincoln Land Energy Center LLC.

Description: Request for Prospective and Limited Waiver, et al. of Lincoln Land Energy Center LLC.

Filed Date: 4/25/25.

Accession Number: 20250425-5277.

Comment Date: 5 p.m. ET 5/16/25.

Docket Numbers: ER25-2080-000.

Applicants: Duke Energy Florida, LLC.

Description: § 205(d) Rate Filing: DEF 2025 Annual Filing of Cost Factor Updates to be effective 5/1/2025.

Filed Date: 4/29/25.

Accession Number: 20250429-5233.

Comment Date: 5 p.m. ET 5/20/25.

Docket Numbers: ER25-2081-000.

Applicants: Fairbanks Solar Energy Center LLC.

Description: Compliance filing: Notice of Non-Material Change in Status and MBR Tariff Revisions to be effective 6/29/2025.

Filed Date: 4/29/25.

Accession Number: 20250429-5249.

Comment Date: 5 p.m. ET 5/20/25.

Docket Numbers: ER25-2082-000.

Applicants: Pacific Gas and Electric Company.

Description: § 205(d) Rate Filing: RS 225: Amendment to Lassen Municipal Utility District IA to be effective 7/1/2025.

Filed Date: 4/30/25.

Accession Number: 20250430-5000.

Comment Date: 5 p.m. ET 5/21/25.

Docket Numbers: ER25-2083-000.

Applicants: New England Power Pool Participants Committee.

Description: § 205(d) Rate Filing: May 2025 Membership Filing to be effective 5/1/2025.

Filed Date: 4/30/25.

Accession Number: 20250430-5001.

Comment Date: 5 p.m. ET 5/21/25.

Docket Numbers: ER25-2084-000.

Applicants: PJM Interconnection, L.L.C.

Description: Tariff Amendment: Notice of Cancellation of Service Agreement No. 5608; Queue No. AE1-218 to be effective 6/30/2025.

Filed Date: 4/30/25.

Accession Number: 20250430-5054.

Comment Date: 5 p.m. ET 5/21/25.

Docket Numbers: ER25-2086-000.

Applicants: PJM Interconnection, L.L.C.

Description: § 205(d) Rate Filing: Amendment to Service Agreement No. 5956; Queue Position No. AB2-172 to be effective 6/30/2025.

Filed Date: 4/30/25.

Accession Number: 20250430-5108.

Comment Date: 5 p.m. ET 5/21/25.

Docket Numbers: ER25-2087-000.

Applicants: PJM Interconnection, L.L.C.

Description: § 205(d) Rate Filing: Amendment to Service Agreement Nos. 6829 & 6830; Queue No. AD1-100 to be effective 6/30/2025.

Filed Date: 4/30/25.

Accession Number: 20250430-5142.

Comment Date: 5 p.m. ET 5/21/25.

Docket Numbers: ER25-2088-000.

Applicants: PJM Interconnection, L.L.C.

Description: § 205(d) Rate Filing: Original GIA Service Agreement No. 7644; Project Identifier No. AE1-166/AE2-152 to be effective 3/31/2025.

Filed Date: 4/30/25.

Accession Number: 20250430-5187.

Comment Date: 5 p.m. ET 5/21/25.

Docket Numbers: ER25-2089-000.

Applicants: Vitol PA Wind Marketing LLC.

Description: § 205(d) Rate Filing: Keystone Wind Marketing Notice of Succession Filing to be effective 5/1/2025.

Filed Date: 4/30/25.

Accession Number: 20250430-5188.

Comment Date: 5 p.m. ET 5/21/25.

Docket Numbers: ER25-2090-000.

Applicants: Southwest Power Pool, Inc.

Description: § 205(d) Rate Filing: 3125R18 Basin Electric Power Cooperative NITSA and NOA to be effective 4/1/2025.

Filed Date: 4/30/25.

Accession Number: 20250430-5237.

Comment Date: 5 p.m. ET 5/21/25.

Docket Numbers: ER25-2091-000.

Applicants: Southwest Power Pool, Inc.

Description: § 205(d) Rate Filing: 1637R5 Kansas Electric Power Cooperative, Inc. NITSA and NOA to be effective 4/1/2025.

Filed Date: 4/30/25.

Accession Number: 20250430-5239.

Comment Date: 5 p.m. ET 5/21/25.

Docket Numbers: ER25-2092-000.

Applicants: New York State Electric & Gas Corporation, New York Independent System Operator, Inc.

Description: § 205(d) Rate Filing: New York Independent System Operator, Inc. submits tariff filing per 35.13(a)(2)(iii: NYISO-NYSEG 205: Amended LGIA Morris Ridge Solar SA2790 (CEII) to be effective 4/17/2025.

Filed Date: 4/30/25.

Accession Number: 20250430-5249.

Comment Date: 5 p.m. ET 5/21/25.

Docket Numbers: ER25-2093-000.

Applicants: Southwestern Electric Power Company.

Description: § 205(d) Rate Filing: Rate Schedule No. 128, Revised and Restated Minden PSA to be effective 5/30/2025.

Filed Date: 4/30/25.

Accession Number: 20250430-5254.

Comment Date: 5 p.m. ET 5/21/25.

Docket Numbers: ER25-2094-000.

Applicants: NSTAR Electric Company.

Description: § 205(d) Rate Filing: Town of Braintree—Interconnection Agreement to be effective 5/1/2025.

Filed Date: 4/30/25.

Accession Number: 20250430-5258.

Comment Date: 5 p.m. ET 5/21/25.

Docket Numbers: ER25-2095-000.

Applicants: Hardin Solar Energy III LLC.

Description: Compliance filing: Notice of Non-Material Change in Status and MBR Tariff Revisions to be effective 6/30/2025.

Filed Date: 4/30/25.

Accession Number: 20250430-5283.

Comment Date: 5 p.m. ET 5/21/25.

Docket Numbers: ER25-2096-000.

Applicants: Blooming Grove Wind Energy Center LLC.

Description: Compliance filing: Notice of Non-Material Change in Status and MBR Tariff Revisions to be effective 6/30/2025.

Filed Date: 4/30/25.

Accession Number: 20250430-5285.

Comment Date: 5 p.m. ET 5/21/25.

Docket Numbers: ER25-2097-000.

Applicants: Florida Power & Light Company.

Description: Tariff Amendment: FPL Notice of Cancellation of Transmission Service Agreement No. 274 to be effective 5/1/2025.

Filed Date: 4/30/25.

Accession Number: 20250430-5288.

Comment Date: 5 p.m. ET 5/21/25.

Docket Numbers: ER25-2098-000.

Applicants: Cleco Cajun LLC.

Description: Compliance filing: Notice of Non-Material Change in Status and Revised Market-Based Rate Tariff to be effective 5/1/2025.

Filed Date: 4/30/25.

Accession Number: 20250430-5329.

Comment Date: 5 p.m. ET 5/21/25.

Docket Numbers: ER25-2099-000.

Applicants: 2018 ESA Project Company, LLC.

Description: Compliance filing: Notice of Change in Status, Updated Category Seller Status & Revised MBR Tariff to be effective 5/1/2025.

Filed Date: 4/30/25.

Accession Number: 20250430-5331.

Comment Date: 5 p.m. ET 5/21/25.

Docket Numbers: ER25-2100-000.

Applicants: Hudson Ranch Power I LLC.

Description: Compliance filing: Notice of Non-Material Change in Status and Revised Market-Based Rate Tariff to be effective 5/1/2025.

Filed Date: 4/30/25.

Accession Number: 20250430-5386.

Comment Date: 5 p.m. ET 5/21/25.

Docket Numbers: ER25-2101-000.

Applicants: Diablo Winds, LLC.

Description: Compliance filing: Notice of Change in Status, Updated Category Seller Status & Revised MBR Tariff to be effective 5/1/2025.

Filed Date: 4/30/25.

Accession Number: 20250430-5336.

Comment Date: 5 p.m. ET 5/21/25.

Docket Numbers: ER25-2102-000.

Applicants: Macquarie Energy LLC.

Description: Compliance filing: Notice of Non-Material Change in Status and Revised Market-Based Rate Tariff to be effective 5/1/2025.

Filed Date: 4/30/25.

Accession Number: 20250430-5338

Comment Date: 5 p.m. ET 5/21/25.

Docket Numbers: ER25-2103-000.

Applicants: Macquarie Energy Trading LLC.

Description: Compliance filing: Notice of Non-Material Change in Status and Revised Market-Based Rate Tariff to be effective 5/1/2025.

Filed Date: 4/30/25.

Accession Number: 20250430-5340.

Comment Date: 5 p.m. ET 5/21/25.

Docket Numbers: ER25-2105-000.

Applicants: Elevate Renewables F7, LLC.

Description: Compliance filing: Notice of Change in Status, Updated Category Seller Status & Revised MBR Tariff to be effective 5/1/2025.

Filed Date: 4/30/25.

Accession Number: 20250430-5384.

Comment Date: 5 p.m. ET 5/21/25.

Docket Numbers: ER25-2106-000.

Applicants: Long Beach Generation LLC.

Description: Compliance filing: Notice of Change in Status, Updated Category Seller Status & Revised MBR Tariff to be effective 5/1/2025.

Filed Date: 4/30/25.

Accession Number: 20250430-5391.

Comment Date: 5 p.m. ET 5/21/25.

Docket Numbers: ER25-2107-000.

Applicants: PJM Interconnection, L.L.C.

Description: § 205(d) Rate Filing: Ministerial Clean-Up to Capacity Market DER Rules Under Order No. 2222 to be effective 3/24/2025.

Filed Date: 4/30/25.

Accession Number: 20250430-5397.

Comment Date: 5 p.m. ET 5/21/25.

Docket Numbers: ER25-2108-000.

Applicants: Wheelabrator Bridgeport, L.P.

Description: Compliance filing: Notice of Non-Material Change in Status and Revised Market-Based Rate Tariff to be effective 5/1/2025.

Filed Date: 4/30/25.

Accession Number: 20250430-5403.

Comment Date: 5 p.m. ET 5/21/25.

Docket Numbers: ER25-2109-000.

Applicants: Wheelabrator Concord Company, L.P.

Description: Compliance filing: Notice of Non-Material Change in Status and Revised Market-Based Rate Tariff to be effective 5/1/2025.

Filed Date: 4/30/25.

Accession Number: 20250430-5409.

Comment Date: 5 p.m. ET 5/21/25.

Docket Numbers: ER25-2110-000.

Applicants: Shiloh IV Lessee, LLC.

Description: Compliance filing: Notice of Change in Status, Updated Category Seller Status & Revised MBR Tariff to be effective 5/1/2025.

Filed Date: 4/30/25.

Accession Number: 20250430-5412.

Comment Date: 5 p.m. ET 5/21/25.

Take notice that the Commission received the following public utility holding company filings:

Docket Numbers: PH25-7-000.

Applicants: BCP Fund UGP, LLC.

Description: BCP Fund UGP, LLC submits FERC 65-A Exemption Notification.

Filed Date: 4/29/25.

Accession Number: 20250429-5367.

Comment Date: 5 p.m. ET 5/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: April 30, 2025.
Carlos D. Clay,
Deputy Secretary.

[FR Doc. 2025-08061 Filed 5-7-25; 8:45 am]

BILLING CODE 6717-01-P